FEDERAL COMMUNICATIONS COMMISSION

Notice of Public Information Collection(s) Being Submitted to OMB for Review and Approval

October 3, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 16, 2000. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0816.

Title: Local Competition and Broadband Reporting, CC Docket No. 99-301.

Form Number: FCC Report 477.

Type of Review: Extension of a currently approved collection.

Respondents: Business or other for-profit entities.

Number of Respondents: 255.

Estimate Time Per Response: 58.67 hours (avg.).

Frequency of Response: Semi-annual reporting requirement.

Total Annual Burden: 29,924 hours.

Total Annual Costs: None.

Needs and Uses: The FCC Form 477 seeks to gather information on the development of local competition and deployment of broadband service also known as advanced telecommunications services. The data are necessary to evaluate the status of developing competition in local exchange telecommunications markets and to evaluate the status of broadband deployment. The Commission staff uses the information to advise the Commission about the efficacy of the FCC rules and policies adopted to implement the Telecommunications Act of 1996.

OMB Control Number: 3060-XXXX.

Title: Notification of Emergency Alert System Status.

Form Number: N/A.

Type of Review: New collection.

Respondents: Business or other for-profit entities; Not-for-profit institutions; and State, local, or tribal government.

Number of Respondents: 125.

Estimate Time Per Response: 30 minutes.

Frequency of Response: On occasion reporting requirement.

Total Annual Burden: 62 hours.

Total Annual Costs: None.

Needs and Uses: Due to the state's size, remoteness, and isolation, it is difficult for the resident agent of the FCC's Alaska office to make on-the-scene inspections to insure that the FM translators are in compliance with the Emergency Alert System (EAS) rules adopted on January 1, 1997. The agent is, therefore, developing a survey to determine whether the FM translators are either rebroadcasting local programming in their entirety, including the EAS warnings, or, if not, then whether the FM translator station has EAS equipment installed and working properly. FM translator stations that are not in compliance could present a safety-of-life issue to the listening public.

Federal Communications Commission.
Magalie Roman Salas,
Secretary.

[FR Doc. 00-26598 Filed 10-16-00; 8:45 am]

BILLING CODE 6712-01-P